DEPARTMENT OF STATE

[Public Notice 4866]

Shipping Coordinating Committee; Notice of Meeting

The Shipping Coordinating Committee (SHC) will conduct an open meeting at 9 a.m. on Wednesday, December 1, 2004, in Room 6103 of the United States Coast Guard Headquarters Building, 2100 2nd Street, SW., Washington, DC 20593-0001. The primary purpose of the meeting is to begin preparations for the 48th Session of the International Maritime Organization (IMO) Sub-Committee on Stability and Load Lines and on Fishing Vessels Safety to be held at IMO Headquarters in London, England from September 12th to 16th.

The primary matters to be considered include:

—Development of explanatory notes for harmonized SOLAS Chapter II-1;

—Large passenger ship safety;

—Review of the Intact Stability Code;

—Review of the Offshore Supply Vessel Guidelines;

—Harmonization of damage stability provisions in other IMO instruments;

—Review of the 2000 HSC Code and amendments to the DSC Code and the 1994 HSC Code;

—Tonnage measurement of open-top containerships.

Members of the public may attend this meeting up to the seating capacity of the room. Interested persons may seek information by writing to Mr. Paul Cojeen, Commandant (G-MSE), U.S. Coast Guard Headquarters, 2100 Second Street, SW., Room 1308, Washington, DC 20593-0001 or by calling (202) 267-2988.

Dated: October 19, 2004.
Clay L. Diamond,
Executive Secretary, Shipping Coordinating Committee, Department of State.

[FR Doc. 04-23848 Filed 10-22-04; 8:45 am]

BILLING CODE 4710-07-P